Proclamation 10786 of July 19, 2024

Made in America Week, 2024

By the President of the United States of America

A Proclamation

Across the Nation, American workers are writing the greatest comeback story in our country's history. After a once-in-a-century pandemic, they are bringing new jobs, businesses, and hope to their communities. This week, we celebrate the American workers, unions, companies, and innovators who are the backbone of America's economy, who make “Made in America” not just a slogan but a reality, and who are leading our Nation's transformation to win the global economic competition of the 21st century.

For decades, manufacturing products here at home created good-paying jobs across the country and forged a clear path to the middle class. But over the years, trickle-down economics reversed that progress. American manufacturers shut down their factories. American jobs were exported overseas. And American communities were hollowed out. People and families throughout the United States were robbed of not just their jobs but their dignity, hope, and pride.

My Administration was determined to turn things around by investing in America and Americans once again—building an economy from the middle out and bottom up, not the top down. The results are clear: Since I came into office, the economy has created over 15 million jobs—including nearly 800,000 manufacturing jobs. The unemployment rate fell to its lowest level in half a century. And manufacturing is roaring back with new factories being built all across the country—in big cities and rural communities. So far, companies have invested more than $700 billion in American manufacturing.

On my watch, Federal projects are being made with American products and are being built by American workers. I signed the “Invent It Here, Make It Here” Executive Order, which directs Federal agencies to prioritize domestic manufacturing when it comes to research, development, innovation, and bringing inventions to market. We are also using the immense purchasing power of the Federal Government—the largest buyer of consumer goods in the world—to bring manufacturing back home. My Administration has implemented the most robust change to the Buy American Act in almost 70 years by raising the domestic content threshold for Federal procurement from 55 percent to 65 percent in 2024—and we are set to raise the bar even higher to 75 percent in 2029.

Additionally, thanks to our Bipartisan Infrastructure Law, 60,000 new infrastructure projects have been announced across the country, rebuilding our roads, bridges, airports, ports, rail networks, water systems, and more. We are investing $90 billion to provide affordable, reliable, high-speed internet to everyone in the United States, which is driving manufacturing jobs in industries like fiber optic cable manufacturing. My CHIPS and Science Act is investing in more research and development for manufacturing than ever before, attracting $348 billion in private sector investments to build new semiconductor factories. This manufacturing boom is creating hundreds of thousands of jobs—many of which pay over $100,000 and do not require a college degree.

At the same time, our Inflation Reduction Act is ensuring that the clean energy future is built here in America. Our investments have spurred the private sector to build and create new jobs here at home. To date, the private sector has announced investments in 126 new and expanded solar manufacturing plants; more than 30 wind manufacturing facilities; more than 150 new or expanded sites for electric vehicle assembly, component manufacturing, and charger manufacturing; and more than 250 new or expanded facilities in the battery manufacturing and critical mineral supply chain. These investments are supporting historic growth in clean energy deployment and adoption and creating good-paying jobs across the country. Altogether, since taking office, companies have committed more than $400 billion in private-sector investment in manufacturing and deployment of clean energy, electric vehicles, and batteries.

For the first time in a long time, American workers are putting shovels in the ground and leading our Nation's greatest economic comeback. Thousands of cities and towns across the country are proving that we can get big things done when we work together. This Made in America Week, let us celebrate America's incredible workers who are restoring American pride. Let us honor the proud legacy and promising future of American products. And let us recommit to nurturing the spirit of innovation that will continue to drive American prosperity for generations to come.

NOW, THEREFORE, I, JOSEPH R. BIDEN JR., President of the United States of America, by virtue of the authority vested in me by the Constitution and the laws of the United States, do hereby proclaim July 21 through July 27, 2024, as Made in America Week. I call upon all Americans to observe this week by celebrating Made in America and supporting American workers and domestic businesses that are the backbone of building a future here in America.

IN WITNESS WHEREOF, I have hereunto set my hand this nineteenth day of July, in the year of our Lord two thousand twenty-four, and of the Independence of the United States of America the two hundred and forty-ninth.

[FR Doc. 2024-16400

Filed 7-23-24; 8:45 am]

Billing code 3395-F4-P